DEPARTMENT OF DEFENSE

Office of the Secretary

Submission for OMB Review; Comment Request

ACTION: Notice.

The Department of Defense has submitted to OMB for clearance, the following proposal for collection of information under the provisions of the Paperwork Reduction Act (44 U.S.C. chapter 35).

DATES: Consideration will be given to all comments received by April 29, 2004.

Title, Form, and OMB Number: Department of Defense Public and Community Service Registry (PACS) Programs; DD Forms 2581 and 2581-1; OMB Number 0704-0324.

Type of Request: Revision.

Number of Respondents: 350.

Responses per Respondent: 1.

Annual Responses: 350.

Average Burden per Response: 14 minutes.

Annual Burden Hours: 82.

Needs and Uses: In accordance with 10 U.S.C. 1143(c), the Public and Community Service (PACS) Registry provides registered PACS organizations with information regarding the availability of individuals with interest in working in a PACS organization. The 800 phone resume request line associated with this information collection, as well as the following two forms: DD Form 2581, Operation Transition Employer Registration; DD Form 2581-1, Public and Community Service Organization Validation; are used in support of the Department of Defense Programs for public service employment assistance.

Affected Public: Individuals or households; Business or other for-profit; Not-for-profit institutions; Federal government; State, local or tribal government.

Frequency: On occasion.

Respondent's Obligation: Required to obtain or retain benefits.

OMB Desk Officer: Ms. Jacqueline Zeiher.

Written comments and recommendations on the proposed information collection should be sent to Ms. Zeiher at the Office of Management and Budget, Desk Officer for DoD, Room 10236, New Executive Office Building, Washington, DC 20503.

DoD Clearance Officer: Mr. Robert Cushing.

Written requests for copies of the information collection proposal should be sent to Mr. Cushing, WHS/ESCD/Information Management Division, 1225 Jefferson Davis Highway, Suite 504, Arlington, VA 22202-4326.

Dated: March 23, 2004.
L.M. Bynum,
Alternate OSD Federal Register Liaison Officer, Department of Defense.

[FR Doc. 04-6979 Filed 3-29-04; 8:45 am]

BILLING CODE 5001-06-M